DEPARTMENT OF DEFENSE

Department of the Army; Corps of Engineers

Availability of the Draft Environmental Impact Statement for the Northern Integrated Supply Project, Larimer and Weld Counties, CO

AGENCY: Department of the Army, U.S. Army Corps of Engineers, DoD.

ACTION: Notice of Availability.

SUMMARY: The U.S. Army Corps of Engineers (Corps) Omaha District has prepared a Draft Environmental Impact Statement (EIS) to analyze the direct, indirect and cumulative effects of the construction of the Northern Integrated Supply Project (NISP) involving the Glade Reservoir and the South Platte Water Conservation Project (SPWCP) involving the Galeton Reservoir in Larimer and Weld Counties, CO. The Proposed Action is a regional water supply project intended to provide approximately 40,000 acre-feet (AF) of new water for 12 water providers and municipalities in Larimer, Weld, Morgan and Boulder Counties. Construction of the two reservoirs and support facilities would result in permanent impacts to approximately 44 acres of wetlands and 7 acres of other waters and temporary impacts to approximately 10 acres of wetlands and 9 acres of other waters. This action requires authorization from the Corps under Section 404 of the Clean Water Act. The Applicant is the Northern Colorado Water Conservancy District (NCWCD).

The Draft EIS was prepared in accordance with the National Environmental Policy Act (NEPA) of 1969, as amended, and the Corps' regulations for NEPA implementation (33 Code of Federal Regulations [CFR] parts 230 and 325, Appendices B and C). The Corps, Omaha District, Regulatory Branch is the lead federal agency responsible for the Draft EIS and information contained in the EIS serves as the basis for a decision regarding issuance of a section 404 permit. It also provides information for Federal, state and local agencies having jurisdictional responsibility for affected resources.

DATES: Written comments on the Draft EIS will be accepted on or after April 30, 2008 until July 29, 2008. Oral and/or written comments may also be presented at the Public Hearing to be held at 6 p.m. on Tuesday, June 17, 2008 at the Fort Collins Senior Center, 1200 Raintree Drive, Fort Collins, CO and at the Public Hearing to be held at 7 p.m. on Thursday, June 19, 2008 at the University of Northern Colorado Student Center, 501 20th Street, Greeley, CO.

ADDRESSES: Send written comments regarding the Proposed Action and Draft EIS to Chandler J. Peter, NEPA EIS/404b1 Coordinator, U.S. Army Corps of Engineers, Omaha District—Denver Regulatory Office, 9307 South Wadsworth Boulevard, Littleton, CO 80128 or via e-mail: chandler.j.peter@usace.army.mil. Requests to be placed on or removed from the mailing list should also be sent to this address.

FOR FURTHER INFORMATION CONTACT: Chandler J. Peter, NEPA EIS/404b1 Coordinator, U.S. Army Corps of Engineers at 303-979-4120; Fax 303-979-0602.

SUPPLEMENTARY INFORMATION: The purpose of the Draft EIS is to provide decision-makers and the public with information pertaining to the Proposed Action and alternatives, and to disclose environmental impacts and identify mitigation measures to reduce impacts. NCWCD proposes to construct Glade Reservoir with a total storage capacity of approximately 170,000 AF. NCWCD also proposes to construct the SPWCP which includes Galeton Reservoir with a total storage capacity of approximately 40,000 AF and support facilities. In addition to Glade Reservoir, an existing diversion dam and intake structure in the Cache la Poudre River would be rehabilitated and a forebay, pumping facility and outlet channel would be constructed. Glade Reservoir would inundate approximately 7 miles of U.S. Highway 287, requiring a relocation of the highway east of its current alignment as well as a section of the Munroe (North Poudre Supply) Canal requiring it to be rerouted. Construction of a new pipeline from Glade Reservoir to the existing Horsetooth Reservoir, a part of the Colorado-Big Thompson project, is also proposed. A new diversion dam and intake in the South Platte River, pumping facilities, and new pipelines would also be constructed with Galeton Reservoir for the SPWCP.

The purpose for the project is to provide additional firm annual yield to the 12 water providers and communities to address anticipated water demands associated with projected growth. Operations of the reservoirs involve an exchange of water. The Glade Reservoir would be filled with water from a new water right as well as agricultural water normally diverted for irrigation. Agricultural water would be replaced by the South Platte Water Conservation Project which will divert new water rights from the South Platte River and pumping it into Galeton Reservoir.

In addition to the Proposed Action, the Draft EIS analyzes three primary alternatives and associated sub-alternatives: (1) The Cactus Hill Reservoir (180,000 AF) and SPWCP (40,000 AF Galeton Reservoir) Alternative, (2) the Glade Reservoir and reduced SPWCP (20,000 AF Galeton) with agriculture transfers, and (3) the No Action Alternative.

The U.S. Environmental Protection Agency Region VIII, U.S. Fish and Wildlife Service, Bureau of Reclamation, Colorado Department of Transportation, and Larimer County participated as cooperating agencies in the formulation of the Draft EIS.

Copies of the Draft EIS will be available for review at:

1. Colorado State University Morgan Library, 501 University Avenue, Fort Collins, CO 80523.

2. Fort Collins Regional Library District, 201 Peterson St., Fort Collins, CO 80524.

3. Fort Collins Regional Library District, 4616 S. Shields St., Fort Collins, CO 80526.

4. Windsor Recreation Center, 250 11th Street, Windsor, CO 80550.

5. Greeley City Manager's Office, 1000 10th Street, Greeley, CO 80631.

6. University of Northern Colorado, James A. Michener Library, Greeley, CO 80639.

7. Northern Colorado Water Conservancy District, 220 Water Avenue, Berthoud, CO 80513.

8. U.S. Army Corps of Engineers, Denver Regulatory Office, 9307 S. Wadsworth Boulevard, Littleton, CO 80128.

Electronic copies of the Draft EIS may be obtained from the Denver Regulatory Office or its Web site at http://www.nwo.usace.army.mil/html/od-tl/eis-info.htm.

Chandler J. Peter,
NEPA EIS/404b1 Coordinator, Operations Division, Omaha District.

[FR Doc. E8-9440 Filed 4-29-08; 8:45 am]

BILLING CODE 3710-62-P